DEPARTMENT OF HEALTH AND HUMAN SERVICES

Centers for Disease Control and Prevention

[Docket Number CDC-2013-0001, NIOSH 134-B]

Issuance of Final Guidance Publication

AGENCY: National Institute for Occupational Safety and Health (NIOSH) of the Centers for Disease Control and Prevention (CDC), Department of Health and Human Services (HHS).

ACTION: Notice of issuance of final guidance publication.

SUMMARY: The National Institute for Occupational Safety and Health (NIOSH) of the Centers for Disease Control and Prevention (CDC), announces the availability of the following publication: “Protecting the Nanotechnology Workforce: NIOSH Nanotechnology Research and Guidance Strategic Plan 2013-2016” [NIOSH 2014-106].

ADDRESSES: This document may be obtained at: http://www.cdc.gov/niosh/docs/2014-106/.

FOR FURTHER INFORMATION CONTACT: Charles Geraci, NIOSH Nanotechnology Research Center, Education and Information Division, Robert A. Taft Laboratories, 4676 Columbia Parkway, Cincinnati, OH 45226, telephone (513)533-8339.

Dated: December 20, 2013.
John Howard,
Director, National Institute for Occupational Safety and Health, Centers for Disease Control and Prevention.

[FR Doc. 2013-31063 Filed 12-26-13; 8:45 am]

BILLING CODE 4163-18-P